DEPARTMENT OF AGRICULTURE

Farm Service Agency

7 CFR Part 718

COMMODITY CREDIT CORPORATION

7 CFR Parts 1412, and 1427

RIN 0560-AH75

Cash and Share Lease Provisions for Future Farm Programs

AGENCIES: Farm Service Agency and Commodity Credit Corporation, USDA.

ACTION: Advance notice of proposed rulemaking; reopening and extension of comment period.

SUMMARY: The Farm Service Agency (FSA) and the Risk Management Agency (RMA) are reopening and extending the comment period for the advance notice of proposed rulemaking, Cash and Share Lease Provisions for Future Farm Programs. The original comment period closed November 27, 2007. FSA and RMA are reopening and extending it for 30 days from the date of this notice. We will also consider any comments received from November 27, 2007 to this date of this notice. This extension responds to requests from the public to provide more time to comment.

DATES: Submit comments on the advance proposed rule published on September 28, 2007 (72 FR 55105-55108) by January 17, 2008.

ADDRESSES: We invite you to submit comments on this notice. In your comment, include the volume, date, and page number of this issue of the Federal Register. You may submit comments by any of the following methods:

E-Mail: Salomon.Ramirez@wdc.usda.gov.

Mail: Director, Production, Emergencies, & Compliance Division, Farm Service Agency (FSA), United States Department of Agriculture (USDA), STOP 0517, 1400 Independence Avenue, SW., Washington, DC 20250-0517.

Fax: Submit comments by facsimile transmission to (202) 690-2130.

Hand Delivery or Courier: Deliver comments to the above address.

Federal eRulemaking Portal: Go to http://www.regulations.gov. Follow the online instructions for submitting comments.

Comments may be inspected in the Office of the Director, PECD, FSA, USDA, Room 3752-S South Building, Washington, DC, between 8 a.m. and 4:30 p.m. Monday through Friday, except holidays.

FOR FURTHER INFORMATION CONTACT: Salomon Ramirez, Director, Production Emergencies and Compliance Division, USDA, FSA, PECD, STOP 0517, 1400 Independence Avenue, SW., Washington, DC 20250-0517, (202) 720-7641, e-mail: Salomon.Ramirez@wdc.usda.gov.

SUPPLEMENTARY INFORMATION: On September 28, 2007, FSA and RMA published advance notice of proposed rulemaking for Cash and Share Lease Provisions for Future Farm Programs, in the Federal Register (72 FR 55105-55108). FSA and RMA are reviewing current regulations to determine the feasibility of developing a standardized regulation for defining various lease agreements. The advance notice of proposed rulemaking discussed the following:

• Types of leases;

• Current treatment of leases by FSA and CCC in provisions applicable to multiple programs;

• CCC noninsured crop disaster assistance program (NAP) payments;

• Ad hoc disaster payments;

• Marketing assistance loans (MLA) and loan deficiency payment (LDP);

• Cash-rent tenant rule; and

• Impact on small and beginning producers.

FSA and RMA believe the request for additional time to comment on the advance notice of proposed rulemaking is reasonable and will benefit the rulemaking process. As a result of reopening and extension, the comment period for this notice will close on January 17, 2008.

Glen L. Keppy,
Executive Vice President, Commodity Credit Corporation, Administrator, Acting, Farm Service Agency.
Eldon Gould,
Administrator, Risk Management Agency, Manager, Federal Crop Insurance Corporation.

[FR Doc. E7-24492 Filed 12-17-07; 8:45 am]

BILLING CODE 3410-05-P